DEPARTMENT OF COMMERCE

International Trade Administration

[A-570-846]

Brake Rotors From the People's Republic of China: Extension of Time Limit for Final Results of Antidumping Duty Administrative and New Shipper Reviews

AGENCY: Import Administration, International Trade Administration, Department of Commerce.

DATES: Effective Date: August 16, 2006.

FOR FURTHER INFORMATION CONTACT: Erin C. Begnal or Tom Killiam, AD/CVD Operations, Office 9, Import Administration, International Trade Administration, U.S. Department of Commerce, 14th Street and Constitution Avenue, NW., Washington, DC 20230; telephone: (202) 482-1442 or (202) 482-5222, respectively.

Background

On May 8, 2006, the Department of Commerce (“Department”) published the preliminary results of the administrative review of the antidumping duty order on brake rotors from the People's Republic of China for the period April 1, 2004, through March 31, 2005. See Brake Rotors From the People's Republic of China: Preliminary Results and Partial Rescission of the 2004/2005 Administrative Review and Preliminary Notice of Intent To Rescind the 2004/2005 New Shipper Review, 71 FR 26736 (May 8, 2006) (“Preliminary Results”). The final results of this administrative review are currently due by September 5, 2006.

Extension of Time Limit for Final Results

Pursuant to section 751(a)(3)(A) of the Tariff Act of 1930, as amended (“the Act”), and section 351.213(h)(1) of the Department's regulations, the Department shall issue final results in an administrative review of an antidumping duty order within 120 days after the date on which the notice of preliminary results is published in the Federal Register. However, if the Department determines that it is not practicable to complete the review within the specified time period, section 751(a)(3)(A) of the Act allows the Department to extend this deadline to 180 days.

The Department has determined that completion of the final results within the originally anticipated time limit, September 5, 2006, is impracticable. The Department requires additional time to analyze the parties' responses to the supplemental questionnaires issued on June 22, 2006, as well as to address the concerns of the interested parties as raised in their June 19, 2006 briefs, June 27, 2006 rebuttal briefs, July 17, 2006 comments on bentonite and coal powder usage, and July 24, 2006, rebuttal comments on this issue. Consequently, it is not practicable to complete the review within the time specified under the Act. Therefore, the Department is extending the time limit for completion of these final results by 45 days to October 20, 2006, in accordance with Section 751(a)(3)(A) of the Act.

Additionally, on April 29, 2005, Shanxi Zhongding Auto Parts Co., Ltd. agreed to waive the time limits of its new shipper review, pursuant to 19 CFR 351.214(j)(3), and to have its review conducted concurrently with the 2004/2005 administrative review of this order for the period April 1, 2004, through March 31, 2005. Therefore, the final results of this new shipper review will also be extended by 45 days to October 20, 2006.

We are issuing and publishing this notice in accordance with sections 751(a)(1) and 777(i)(1) of the Act.

Dated: August 10, 2006.
Stephen J. Claeys,
Deputy Assistant Secretary for Import Administration.

[FR Doc. E6-13474 Filed 8-15-06; 8:45 am]

BILLING CODE 3510-DS-P